DEPARTMENT OF THE INTERIOR

Bureau of Safety and Environmental Enforcement

[EEEE500000 21XE1700DX EX1SF0000.EAQ000]

Leaders in Advancing Safety and Environmental Stewardship

AGENCY: Bureau of Safety and Environmental Enforcement, Interior.

ACTION: Notice.

SUMMARY: The Bureau of Safety and Environmental Enforcement (BSEE) developed objective, qualitative and quantifiable criteria to create a “Leaders in Advancing Safety and Environmental Stewardship” Recognition Program to recognize operators who demonstrate exemplary operating performance or sustained safety and environmental stewardship improvements on their Outer Continental Shelf (OCS) oil and gas facilities, including support vessels, and leadership within the industry regarding operational safety and environmental performance. BSEE's process for identifying “Leaders in Advancing Safety and Environmental Stewardship” is consistent with BSEE's inspection programs, regulations, and Notice to Operators and Lessees (NTL) No. 2008-N02, Outer Continental Shelf (OCS) Inspection Program. The “Leaders in Advancing Safety and Environmental Stewardship” Recognition Program will recognize OCS operators demonstrating high levels of operational safety, sustained safety improvement, or industry leadership on operational safety issues. The primary objective of the Recognition Program is to drive OCS operators to significantly improve safety and environmental prioritization, culture, and performance on OCS facilities and to encourage them to become leaders in industry regarding operational safety and environmental issues. Another objective is to create a platform through which BSEE can educate the public regarding the fact that OCS operators can conduct complex and high-risk operations on OCS oil and gas facilities in a way that is safe for personnel, the public, and the environment.

DATES: This notice will become effective on December 11, 2020.

FOR FURTHER INFORMATION CONTACT: Jason Mathews, Bureau of Safety and Environmental Enforcement, Chief, Safety Improvement Branch, (504) 731-1496, or by email: jason.mathews@bsee.gov.

SUPPLEMENTARY INFORMATION:

Each year, BSEE Gulf of Mexico and Pacific Regions conduct Annual Performance Reviews (APRs) of OCS operators. The APRs consist of a review of the following:

• The operator's compliance history, as reflected in findings from the BSEE Inspection Program;

• The operator's safety record as it relates to incidents;

• Any action that BSEE has forwarded to the BSEE Safety Enforcement Division (SED) for review for potential assessment of a civil penalty; and,

• The results of the most recent internal and regulatory audits of the operator's Safety and Environmental Management System (SEMS) program.

BSEE will use the information gathered during the APRs to provide factual bases for determining eligibility for operator recognition.

For an OCS operator to qualify for consideration as a Leader in Advancing Safety and Environmental Stewardship, the operator must have either:

1. An Injury/Illness Combined Rate (total recordables) less than the OCS average for the prior reporting year, or

2. Demonstrate two or more consecutive years of improvement of its Injury/Illness Combined Rate.

In addition, the OCS operator's operations for the reporting must not have included any of the following:

• Fatality;

• Incident with ≥ 3 injuries;

• Major pollution incidents;

• Major Fire/Explosion;

• ≥ 3 Incidents of Noncompliance (INCs) forwarded for civil penalty cases or $1 million in cumulative proposed fines;

• Loss of Well Control; (not to include shallow water flow)

• ≥ 3 Facilities on Increased Oversight List;

• Order to perform an additional Directed SEMS Audit; or,

• A sustained environmental compliance record <90 percent with assigned environmental mitigation measures and similar regulatory requirements; or,

• Placement on a Performance Improvement Plan.

If an OCS operator is disqualified by any of the factors above, BSEE may reconsider the operator for potential recognition if the issue(s) is satisfied prior to March 31st of the following year.

For OCS operators that meet the requirements above, BSEE will also look at how those operators are providing leadership within the industry regarding operational safety. BSEE will consider whether the OCS operator is offering industry advice and details on steps it has taken that have resulted in significant improvement to its safety performance, and leadership positions it has taken within industry organizations, such as the American Petroleum Institute (API), the Offshore Operators Committee (OOC), or The Center for Offshore Safety (COS), with a focus on advancing safety. Similarly, BSEE will also assess how operators are providing guidance and supporting environmental research, mitigation assessments, and project validation of pollution prevention, spill preparedness/response, and environmental compliance efforts, which not only benefit their operations and stewardship culture, but every partner in the OCS energy program.

Environmental stewardship components that BSEE will consider include:

• A sustained compliance record (>90-percent) with assigned environmental mitigation measures and similar regulatory requirements, as confirmed by office and field verification;

• Participation and leadership with critical Joint Industry Project (JIP) efforts and within environmental and/or pollution prevention-focused workgroups and teams;

• Response preparedness and planning assessments;

• Non-compulsory enhancements and innovation above and beyond standard pollution prevention requirements; and

• Repeated (100-percent) appropriate and constructive response on corrective/remedial actions associated with all noncompliance issues.

For information on the “Leaders in Advancing Safety and Environmental Stewardship” Recognition Program or the submission of comments, the public should contact Mr. Jason Mathews, Chief, Safety Improvement Branch, Regional Field Operations (GE 1073E), BSEE, Gulf of Mexico OCS Region, 1201 Elmwood Park Boulevard, New Orleans, Louisiana 70123-2394, (504) 731-1496.

BSEE will implement this program in 2021, with qualifying OCS operators recognized in 2022 for their 2020 and 2021 calendar year performance. BSEE will initiate performance reviews beginning in January 2021 and January 2022, and all OCS operators who meet the minimum requirements and are selected by BSEE for recognition, will be identified by April-May 2022.

Casey Hammond,
Principal Deputy Assistant Secretary, Land and Minerals Management.

[FR Doc. 2020-27237 Filed 12-10-20; 8:45 am]

BILLING CODE 4310-VH-P